DEPARTMENT OF JUSTICE

Drug Enforcement Administration

Agency Information Collection Activities: Proposed Collection; Comment Request

ACTION: Notice of information collection under review; extension of a currently approved collection; Annual Reporting Requirement for Manufacturers of Listed Chemicals.

This proposed information collection is published to obtain comments from the public and affected agencies. Comments are encouraged and will be accepted until July 17, 2000. Written comments and suggestions are requested from the public and affected agencies concerning the proposed collection of information.

Your comments should address one or more of the following four points:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

If you have comments, suggestions, or need a copy of the proposed information collection instrument with instructions, if applicable, or additional information, please contact Frank L. Sapienza, Chief, Drug & Chemical Evaluation Section, Office of Diversion Control, Drug Enforcement Administration, Washington, D.C. 20537, Telephone (202) 307-7183.

Overview of this information:

(1) Type of information collection: Extension of a currently approved collection.

(2) The title of the form/collection: Annual Reporting Requirement for Manufacturers of Listed Chemicals.

(3) The agency form number, if any, and the applicable component of the Department sponsoring the collection:

Form No.: None.

Applicable component of the Department sponsoring the collection: Office of Diversion Control, Drug Enforcement Administration, U.S. Department of Justice.

(4) Affected public who will be asked or required to respond, as well as a brief abstract: Primary: Business or other for-profit.

Other: None.

Abstract: This information collection permits the Drug Enforcement Administration to monitor the volume and availability of domestically manufactured listed chemicals. These listed chemicals may be subject to diversion for the illicit production of controlled substances. This information collection is authorized by the Domestic Chemical Diversion Control Act of 1993 (P.L. 103-200; 21 U.S.C. 830(b)). This information is collected from businesses and other for-profit entities which manufacture listed chemicals domestically.

(5) An estimate of the total number of respondents and the amount of time estimated for an average respondent to respond/reply: 100 respondents; 100 responses per year × 4 hours per response = 400 hrs.

(6) An estimate of the total public burden (in hours) associated with the collection: 400 annual burden hours; 100 respondents × 4 hours per respondent per year.

If additional information is required contact: Mr. Robert B. Briggs, Clearance Officer, United States Department of Justice, Information Management and Security Staff, Justice Management Division, Suite 1221, National Place Building, 1331 Pennsylvania Ave., NW, Washington, DC 20530.

Dated: May 9, 2000.
Robert B. Briggs,
Department Clearance Officer, United States Department of Justice.

[FR Doc. 00-12252 Filed 5-15-00; 8:45 am]

BILLING CODE 4410-09-M